DEPARTMENT OF ENERGY

Federal Energy Regulatory Commission

[Docket No. ER00-1242-000, et al.]

Cinergy Services, Inc., et al., Electric Rate and Corporate Regulation Filings

February 2, 2000.

Take notice that the following filings have been made with the Commission:

1. Cinergy Services, Inc.

[Docket No. ER00-1242-000]

Take notice that on January 27, 2000, Cinergy Services, Inc. (Cinergy) tendered for filing a Firm Point-To-Point Service Agreement under Cinergy's Open Access Transmission Service Tariff (the Tariff) entered into between Cinergy and UtiliCorp United, Inc.(UtiliCorp).

Cinergy and British are requesting an effective date of January 10, 2000.

Comment date: February 17, 2000, in accordance with Standard Paragraph E at the end of this notice.

2. Cinergy Services, Inc.

[Docket No. ER00-1243-000]

Take notice that on January 27, 2000, Cinergy Services, Inc. (Cinergy) tendered for filing a service agreement under Cinergy's Open Access Transmission Service Tariff (the Tariff) entered into between Cinergy and Cinergy Services, Inc. (Cinergy, the Customer).

This service agreement has a yearly firm transmission service with American Electric Power via the Zimmer Generating Station Unit No. 1.

Cinergy and Cinergy, the Customer are requesting an effective date of January 1, 2000.

Comment date: February 17, 2000, in accordance with Standard Paragraph E at the end of this notice.

3. Cinergy Services, Inc.

[Docket No. ER00-1244-000]

Take notice that on January 27, 2000, Cinergy Services, Inc. (Cinergy) tendered for filing a service agreement under Cinergy's Open Access Transmission Service Tariff (the Tariff) entered into between Cinergy and Cinergy Services, Inc. (Cinergy, the Customer).

This service agreement has a yearly firm transmission service with Northern Indiana Public Service Company via the Gibson Unit No. 5 Generating Station.

Cinergy and Cinergy, the Customer are requesting an effective date of February 1, 2000.

Comment date: February 17, 2000, in accordance with Standard Paragraph E at the end of this notice.

4. Allegheny Energy Service Corporation on behalf of Allegheny Energy Supply Company, LLC

[Docket No. ER00-1245-000]

Take notice that on January 27, 2000, Allegheny Energy Service Corporation on behalf of Allegheny Energy Supply Company, LLC (Allegheny Energy Supply) filed Supplement No. 21 to add one (1) new Customer to the Market Rate Tariff under which Allegheny Energy Supply offers generation services.

Allegheny Energy Supply requests a waiver of notice requirements to make service available as of December 28, 1999 to The Dayton Power and Light Company.

Copies of the filing have been provided to the Public Utilities Commission of Ohio, the Pennsylvania Public Utility Commission, the Maryland Public Service Commission, the Virginia State Corporation Commission, the West Virginia Public Service Commission, and all parties of record.

Comment date: February 17, 2000, in accordance with Standard Paragraph E at the end of this notice.

5. Wisconsin Public Service Corporation

[Docket No. ER00-1246-000]

Take notice that on January 27, 2000, Wisconsin Public Service Corporation tendered for filing an executed service agreement with Williams Energy Marketing and Trading Co. under its Market-Based Rate Tariff.

Wisconsin Public Service Corporation has requested an effective date of December 30, 1999.

Comment date: February 17, 2000, in accordance with Standard Paragraph E at the end of this notice.

6. Kansas City Power & Light Company

[Docket No. ER00-1247-000]

Take notice that on January 27, 2000, Kansas City Power & Light Company (KCPL) tendered for filing nine Service Agreements dated December 20, 1999.

KCPL proposes an effective date of February 1, 2000. These Agreements provide for the rates and charges for Firm Point-to-Point Transmission Service by KCPL for wholesale transactions.

In its filing, KCPL states that the rates included in the above-mentioned Service Agreements are KCPL's rates and charges in the compliance filing to FERC Order 888-A in Docket No. OA97-636-000.

Comment date: February 17, 2000, in accordance with Standard Paragraph E at the end of this notice.

7. Duke Power a division of Duke Energy Corporation

[Docket No. ER00-1248-000]

Take notice that on January 27, 2000, Duke Power (Duke), a division of Duke Energy Corporation, tendered for filing a Service Agreement with Clinton Energy Management Services, Inc. for power sales at market-based rates.

Duke requests that the proposed Service Agreement be permitted to become effective on January 20, 2000.

Duke states that this filing is in accordance with Part 35 of the Commission's Regulations and a copy has been served on the North Carolina Utilities Commission.

Comment date: February 17, 2000, in accordance with Standard Paragraph E at the end of this notice.

8. Virginia Electric and Power Company

[Docket No. ER00-1249-000]

Take notice that on January 27, 2000, Virginia Electric and Power Company (Virginia Power) filed an amended Transaction Agreement (Agreement) with Constellation Energy Source, Inc. (CES) pursuant to Virginia Power's Service Agreement with CES under its FERC Electric Tariff, Second Revised Volume No. IV.

Virginia Power requests that the Commission waive its notice of filing requirements to allow the agreement, as amended, to become effective January 1, 2000.

Comment date: February 17, 2000, in accordance with Standard Paragraph E at the end of this notice.

9. Tacoma Energy Recovery Company

[Docket No. ER00-1250-000]

Take notice that on January 27, 2000, Tacoma Energy Recovery Company (Operator), a corporation organized under the laws of the State of Delaware, petitioned the Commission for an order: (1) A ccepting Operator's Rate Schedule FERC No. 1; (2) granting waiver of certain requirements under Subparts B and C of Part 35 of the regulations; and (3) granting certain blanket approvals. Operator is an indirect subsidiary of Northern States Power Company.

Comment date: February 17, 2000, in accordance with Standard Paragraph E at the end of this notice.

10. PG&E Energy Trading—Power, L.P.

[Docket No. ER00-1251-000]

Take notice that on January 27, 2000, PG&E Energy Trading-Power, L.P. (PGET), 7500 Old Georgetown Road, Bethesda, Maryland 20814, filed revisions to its Electric Rate Schedule No. 1 providing for the resale of Firm Transmission Rights pursuant to the Commission's November 10, 1999 Order in Docket No. ER 99-3594-000.

Comment date: February 17, 2000, in accordance with Standard Paragraph E at the end of this notice.

11. Potomac Electric Power Company

[Docket No. ER00-1252-000]

Take notice that on January 27, 2000, Potomac Electric Power Company (Pepco) tendered for filing a service agreement pursuant to Pepco FERC Electric Tariff, Original Volume No. 4, entered into between Pepco and: Delmarva Power & Light Company; Dayton Power and Light Company; Rainbow Energy Marketing Corporation and Merchant Energy Group of the Americas, Inc.

An effective date of May 14, 1999 for these service agreements, with waiver of notice, is requested.

Comment date: February 17, 2000, in accordance with Standard Paragraph E at the end of this notice.

12. Potomac Electric Power Company

[Docket No. ER00-1253-000]

Take notice that on January 27, 2000, Potomac Electric Power Company (Pepco) tendered for filing a service agreement pursuant to Pepco FERC Electric Tariff, Original Volume No. 4, entered into between Pepco and DTE Energy Trading, Inc.

An effective date of June 8, 1999 for this service agreement, with waiver of notice, is requested.

Comment date: February 17, 2000, in accordance with Standard Paragraph E at the end of this notice.

13. Potomac Electric Power Company

[Docket No. ER00-1254-000]

Take notice that on January 27, 2000, Potomac Electric Power Company (Pepco) tendered for filing a service agreement pursuant to Pepco FERC Electric Tariff, Original Volume No. 4, entered into between Pepco and PG&E Energy Trading—Power, L.P.

An effective date of October 1, 1999 for this service agreement, with waiver of notice, is requested.

Comment date: February 17, 2000, in accordance with Standard Paragraph E at the end of this notice.

14. Potomac Electric Power Company

[Docket No. ER00-1255-000]

Take notice that on January 27, 2000, Potomac Electric Power Company (Pepco) tendered for filing a service agreement pursuant to Pepco FERC Electric Tariff, Original Volume No. 4, entered into between Pepco and: Cinergy Services, Inc. as agent for and on behalf of The Cincinnati Gas and Electric Company and PSI Energy, Inc. collectively Cinergy Operating Companies.

An effective date of May 6, 1999 for this service agreement, with waiver of notice, is requested.

Comment date: February 17, 2000, in accordance with Standard Paragraph E at the end of this notice.

15. Northern States Power Company (Minnesota) and Northern States Power Company (Wisconsin)

[Docket No. ER00-1315-000]

Take notice that on January 28, 2000, Northern States Power Company (Minnesota) and Northern States Power Company (Wisconsin) (jointly NSP), tendered for filing two firm Transmission Service Agreements between NSP and NSP Energy Marketing.

NSP requests that the Commission accept the Agreements effective January 1, 2000, and requests waiver of the Commission's notice requirements in order for the agreements to be accepted for filing on the date requested.

Comment date: February 18, 2000, in accordance with Standard Paragraph E at the end of this notice.

16. Central Power and Light Company and West Texas Utilities Company

[Docket No. ER00-1316-000]

Take notice that on January 28, 2000, Central Power and Light Company (CPL), and West Texas Utilities Company (WTU), tendered for filing a service agreement under the Central and South West Open Access Transmission Tariff with Sharyland Utilities, L.P., (Sharyland).

CPL and WTU seek an effective date of January 1, 2000 for the agreement.

Copies of the filing were served on Sharyland and the Public Utility Commission of Texas.

Comment date: February 18, 2000, in accordance with Standard Paragraph E at the end of this notice.

17. Central Vermont Public Service Corporation

[Docket No. ER00-1317-000]

Take notice that on January 28, 2000, Central Vermont Public Service Corporation tendered for filing Network Integration Transmission Service Agreements and Network Operating Agreements with Vermont Electric Cooperative, Inc.; Woodsville Fire District Water and Light Department; Village of Johnson Water and Light Department; Rochester Electric Light and Power Company; Village of Ludlow Electric Light Department; Lyndonville Electric Department; and Village of Hyde Park Water and Light Department for service under Central Vermont's Open Access Transmission Tariff No. 7.

Central Vermont requests that the Commission waive its notice of filing requirements and allow the agreements to become effective as of January 1, 2000.

Comment date: February 18, 2000, in accordance with Standard Paragraph E at the end of this notice.

18. PG Power Sales Ten, L.L.C.

[Docket No. ER00-1318-000]

Take notice that, on January 28, 2000, PG Power Sales Ten, L.L.C., tendered for filing initial FERC electric service tariff, Rate Schedule No. 1, and a petition for blanket approvals and waivers of various Commission regulations under the Federal Power Act.

Comment date: February 18, 2000, in accordance with Standard Paragraph E at the end of this notice.

19. Wisconsin Energy Corporation Operating Companies

[Docket No. ER00-1319-000

Take notice that on January 28, 2000, Wisconsin Energy Corporation Operating Companies (WEC), tendered for filing a charge for Schedule 2 (Reactive Supply and Voltage Control from Generation Sources Service) of Wisconsin Energy Corporation Operating Companies' FERC Electric Tariff, Original Volume No. 1. WEC also made an addition to Exhibit C (Methodology to Assess Available Transmission Capacity) to the OATT to clarify that other analytic tools may be used in addition to the cited PTI PSS/E load flow program.

WEC requests an effective date of March 28, 2000.

Copies of the filing have been served on all transmission service customers, the Michigan Public Service Commission, and the Public Service Commission of Wisconsin.

Comment date: February 18, 2000, in accordance with Standard Paragraph E at the end of this notice.

20. Texas-New Mexico Power Company

[Docket No. ER00-1320-000]

Take notice that on January 28, 2000, Texas-New Mexico Power Company (TNP), tendered for filing under TNP's Market-Based Rate Tariff an executed Power Sale Agreement and companion Service Agreement for Negotiated Market-Based Rates with Southwestern Public Service Company (SPS) as the customer.

TNP has requested an effective date of January 1, 2000 for capacity and energy sales by TNP to SPS at market-based rates under these Agreements. Service to be provided under these Agreements is for one year.

A copy of this filing was served upon SPS.

Comment date: February 18, 2000, in accordance with Standard Paragraph E at the end of this notice.

21. Metropolitan Edison Company

[Docket No. ER00-1321-000]

Take notice that on January 28, 2000, Metropolitan Edison Company (doing business and referred to as GPU Energy), tendered for filing an amendment to the Generation Facility Transmission Interconnection Agreement between GPU Energy and Solar Turbines Incorporated. (Metropolitan Edison Company, Rate Schedule FERC No. 75). The amendment consists of new Schedule 1 of Appendix E, which amends the interconnection agreement by providing for a fee of $576.40 per month to compensate GPU Energy for relaying PJM operating orders.

Copies of the filing were served upon Solar Turbines and regulators in the Commonwealth of Pennsylvania.

Comment date: February 18, 2000, in accordance with Standard Paragraph E at the end of this notice.

22. Jersey Central Power & Light Company and Metropolitan Edison Company

[Docket No. ER00-1322-000]

Take notice that on January 28, 2000, Jersey Central Power & Light Company and Metropolitan Edison Company (each doing business and hereinafter collectively referred to as GPU Energy), tendered for filing a letter agreement (Agreement) between GPU Energy and PECO Energy (PECO). Under the Agreement, PECO has agreed to accept certain operational and financial responsibilities, including those set forth in the GPU Energy's procedure manuals, associated with PECO acting as the Load Serving Entity for the New Jersey boroughs of Butler, Lavallette, Madison, Pemberton, and Seaside Heights, and the Pennsylvania borough of Middletown.

Copies of the filing were served upon PECO and regulators in the State of New Jersey and the Commonwealth of Pennsylvania.

Comment date: February 18, 2000, in accordance with Standard Paragraph E at the end of this notice.

23. New Century Services, Inc.

[Docket No. ER00-1323-000]

Take notice that on January 28, 2000, New Century Services, Inc. (NCS), on behalf of Public Service Company of Colorado (Public Service), tendered for filing the Master Power Purchase and Sale Agreement between Public Service and Black Hills Power and Light Company, which is an umbrella service agreement under Public Service's Rate Schedule for Market-Based Power Sales (Public Service FERC Electric Tariff, Original Volume No. 6).

NCS requests that this agreement become effective on January 24, 2000.

Comment date: February 18, 2000, in accordance with Standard Paragraph E at the end of this notice.

24. New Century Services, Inc.

[Docket No. ER00-1324-000]

Take notice that on January 28, 2000, New Century Services, Inc., on behalf of Cheyenne Light, Fuel and Power Company, Public Service Company of Colorado, and Southwestern Public Service Company (collectively Companies), tendered for filing a Service Agreement under their Joint Open Access Transmission Service Tariff for Long Term Firm Point-to-Point Transmission Service between the Companies and West Texas Municipal Power Agency.

Comment date: February 18, 2000, in accordance with Standard Paragraph E at the end of this notice.

25. Cleco Utility Group Inc.

Docket No. ER00-1304-000

Take notice that on January 27, 2000 Cleco Utility Group Inc., Transmission services (CLECO), tendered for filing service agreements for short term firm point-to-point transmission service under its Open Access Transmission Tariff with Central and South West Services, Inc., (CSWS).

CLECO requests an effective date of January 20, 2000.

Comment date: February 17, 2000, in accordance with Standard Paragraph E at the end of this notice.

26. Dightom Power Associates Limited Partnerships, FPL Energy, L.L.C., Southern Energy New England, L.L.C. and Southern Energy Kendall, L.L.C. v. ISO New England, Inc.

[Docket No. EL00-40-000]

Take notice that on February 1, 2000, Dighton Power Associates Limited Partnerships, FPL Energy, L.L.C., Southern Energy New England, L.L.C., Southern Energy Kendall, L.L.C., tendered for filing pursuant to Sections 206 and 306 of the Federal Power Act a complaint against ISO New England, Inc.

Comment date: February 22, 2000, in accordance with Standard Paragraph E at the end of this notice.

27. Northern Maine Independent System Administrator, Inc.

[Docket No. ES00-17-000]

Take notice that on January 28, 2000, the Northern Maine Independent System Administrator, Inc. (NMISA) submitted an application under Section 204 of the Federal Power Act, requesting authorization to enter into a $1,000,000 revolving line of credit with an effective date of no later than March 1, 2000. NMISA also requests that the Commission waive its competitive bidding or negotiated placement requirements of 18 CFR 34.2.

Comment date: February 23, 2000, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-2885 Filed 2-8-00; 8:45 am]

BILLING CODE 6717-01-P